ENVIRONMENTAL PROTECTION AGENCY

40 CFR Parts 52, 62, and 70

[EPA-R07-OAR-2012-0410; FRL 9901-65-Region 7]

Approval and Promulgation of Implementation Plans; Approval and Promulgation of State Air Quality Plans for Designated Facilities and Pollutants, State of Iowa; Control of Emissions From Existing Hospital/Medical/Infectious Waste Incinerator Units, Negative Declaration and 111(d) Plan Rescission; Approval and Promulgation of Operating Permits Program, State of Iowa

AGENCY: Environmental Protection Agency (EPA).

ACTION: Direct final rule.

SUMMARY: EPA is approving, through direct final rulemaking, revisions to the State of Iowa's State Implementation Plan (SIP), Title V program, and Clean Air Act (CAA) section 111(d) plan. The purpose of these revisions is to make general updates to existing state air quality rules, approve an exemption from constructing permitting for engines used in periodic pipeline testing, approve changes to state rules regarding regional haze requirements, and to approve adoption of Federal regulations including the National Ambient Air Quality Standards (NAAQS) for 2008 Ozone, 2008 Lead, and 2010 Nitrogen Dioxide. EPA is approving the SIP provisions pursuant to section 110 of the CAA.

EPA is also taking direct final action to approve a Hospital Medical Infectious Waste Incinerators (HMIWI) section 111(d) negative declaration from the State of Iowa which certifies that HMIWIs, subject to the requirements of sections 111(d) and 129 of the CAA, do not exist in the State; and approving the rescission of its section 111(d)/129 plan and emission guidelines for HMIWI units. EPA is approving these actions pursuant to section 111 of the CAA.

EPA is also approving two minor administrative changes to the Title V program, pursuant to section 500 of the CAA.

DATES: This rule is effective December 24, 2013, without further notice, unless EPA receives adverse comment by November 25, 2013. If EPA receives adverse comment, we will publish a timely withdrawal of the direct final rule in the Federal Register informing the public that the rule will not take effect.

ADDRESSES: Submit your comments, identified by Docket ID No. EPA-R07-OAR-2012-0410, by one of the following methods:

1. www.regulations.gov. Follow the on-line instructions for submitting comments.

2. Email: jay.michael@epa.gov.

3. Mail or Hand Delivery: Michael Jay, Environmental Protection Agency, Air Planning and Development Branch, 11201 Renner Blvd., Lenexa, KS, 66219.

Instructions: Direct your comments to Docket ID No. EPA-R07-OAR-2012-0410. EPA's policy is that all comments received will be included in the public docket without change and may be made available online at www.regulations.gov, including any personal information provided, unless the comment includes information claimed to be Confidential Business Information (CBI) or other information whose disclosure is restricted by statute. Do not submit through www.regulations.gov or email information that you consider to be CBI or otherwise protected. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, i.e., CBI or other information whose disclosure is restricted by statute. Certain other material, such as copyrighted material, will be publicly available only in hard copy form. Publicly available docket materials are available either electronically at www.regulations.gov or in hard copy at the Environmental Protection Agency, Air Planning and Development Branch, 11201 Renner Blvd., Lenexa, KS, 66219. The Regional Office's official hours of business are Monday through Friday, 8:00 to 4:30 excluding Federal holidays. The interested persons wanting to examine these documents should make an appointment with the office at least 24 hours in advance.

FOR FURTHER INFORMATION CONTACT: Michael Jay at (913) 551-7460, or by email at jay.michael@epa.gov.

SUPPLEMENTARY INFORMATION: Throughout this document “we,” ”us,” or “our” refer to the EPA.

Table of Contents

I. What is being addressed in this document?

II. What part 52 revisions are being approved by EPA?

III. What part 62 revisions are being approved by EPA?

IV. What part 70 revisions are being approved by EPA?

V. What final action is EPA taking?

VI. Statutory and Executive Order Reviews

I. What is being addressed in this document?

On March 7, 2008, EPA Region 7 received a submission from the Iowa Department of Natural Resources (IDNR) requesting revisions to Iowa's Federally-approved SIP. These revisions made changes to Chapter 22, “Controlling Pollution,” of the Iowa Administrative Code (IAC), promulgated by the Iowa Environmental Protection Commission (EPC). EPA took action on a portion of this plan submittal on June 26, 2012; ¹ EPA is taking direct final action on remaining portions of this submittal in today's action.

¹ 77 FR 38006.

On January 11, 2010, EPA Region 7 received a submission from IDNR requesting revisions to Iowa's Federally-approved SIP and Title V program including changes to Chapter 20, “Scope of Title—Definitions—Forms—Rules of Practice,” Chapter 22, “Controlling Pollution,” Chapter 23, “Emission Standards for Contaminants,” Chapter 25, “Measurement of Emissions,” Chapter 28, “Ambient Air Quality Standards,” and Chapter 33, “Special Regulations and Construction Permit Requirements for Major Stationary Sources—Prevention of Significant Deterioration (PSD) of Air Quality.” EPA is taking direct final action to approve revisions to these chapters in today's action. Also included in the submittal were revisions to Chapter 23, “Emission Standards for Contaminants,” which we are not acting on today, and will address in a separate action.

On March 1, 2011, EPA Region 7 received a submittal from the IDNR requesting revisions to Iowa's Federally-approved SIP and 111(d) plan, including changes to Chapter 24, “Excess Emissions,” Chapter 28, “Ambient Air Quality Standards,” and changes to Chapter 23, “Emission Standards.” EPA is taking direct final action to approve these changes in today's action.

II. What part 52 revisions are being approved by EPA?

EPA is approving changes to Chapter 22.9 related to the State's plan for Regional Haze. EPA took final action on the State's Regional Haze plan on June 26, 2012 (77 FR 38006), but inadvertently failed to act on changes to the state rules. These changes include adding definitions for Best Available Retrofit Technology (BART), deciview, and mandatory Class I area, as well as establishing procedures for how IDNR will notify source owners or operators about BART status, and establishing provisions for how IDNR may request a BART analysis from sources.

EPA is approving changes to the definitions of Volatile Organic Compounds (VOCs) in Chapter 20 and 33. These changes update the state rules to make them consistent with the Federal definitions as of January 21, 2009.

EPA is approving changes to several chapters which update the zip code for the IDNR Air Quality Bureau Offices. The offices remain in the current location; however, a ZIP code change for the current location took effect on July 1, 2009.

EPA is approving an exemption from construction permitting in Chapter 22.1 for certain temporary diesel engines used in periodic testing and maintenance of natural gas pipelines. The exemption contains conditions to ensure that engine emissions will not exceed the emission limits currently allowed under the State's small unit exemption.

EPA is approving changes to Chapter 24 which allow for initial reports of excess emissions to be made via electronic mail (email). Facility owners and operators are still allowed to make initial reports in person or by telephone. Owners or operators must still follow up their initial report with a written, hard-copy report.

EPA is approving minor changes to IDNR's stack testing notifications and test protocols in Chapter 25.1 which clarify IDNR's procedures.

EPA is approving Iowa's amendments to Chapter 28, to include the adoption by reference of the NAAQS for 2008 Ozone ², 2008 Lead ³, and 2010 Nitrogen Dioxide ⁴ into Iowa's Federally-approved SIP. States are not required to adopt ambient air quality standards, but are required to implement the standards adopted by EPA pursuant to section 110 of the CAA. Iowa has adopted standards which are consistent with the EPA standards, and therefore this revision to update the state standards is approvable.

² 73 FR 16436, March 27, 2008.

³ 73 FR 66964, November 12, 2008.

⁴ 75 FR 6474, February 9, 2010.

III. What part 62 revisions are being approved by EPA?

Section 111(d) of the CAA requires states to submit plans to control certain pollutants (designated pollutants) at existing facilities (designated facilities) whenever standards of performance have been established under section 111(b) for new sources of the same type, and EPA has established emission guidelines for such existing sources. A designated pollutant is any pollutant for which no air quality criteria have been issued, and which is not included on a list published under section 108(a) or section 112(b)(1)(A) of the CAA, but emissions of which are subject to a standard of performance for new stationary sources.

EPA originally promulgated emission guidelines for existing HMIWI in 1997, in accordance with sections 111 and 129 of the Act. EPA codified revised regulations at 40 CFR part 60, subpart Ce. A HMIWI unit as defined in 40 CFR 60.51c is any device that combusts any amount of hospital waste and/or medical/infectious waste. Under section 129(b)(2) of the Act and the revised guidelines at subpart Ce, states with subject sources must submit to EPA plans that implement the Emission Guidelines.

Subpart B of 40 CFR part 60 establishes procedures to be followed and requirements to be met in the development and submission of state plans for controlling designated pollutants. 40 CFR part 62 provides the procedural framework for the submission of these plans. As aforementioned, when designated facilities are located in a state, a state must develop and submit a plan for the control of the designated pollutant.

However, 40 CFR 62.06 provides that if there are no existing sources of the designated pollutant in the state, the state may submit a letter of certification to that effect, or negative declaration, in lieu of a plan. The negative declaration exempts the state from the requirement to develop a plan meeting the requirements of subpart Ce.

The State of Iowa HMIWI plan and related state rule were approved by EPA on June 17, 1999, and codified in 40 CFR Part 62, subpart Q. (64 FR 32427) Since that time, the two designated incinerator facilities in Iowa subject to the plan have been dismantled, according to documentation submitted by IDNR.

Therefore, on March 1, 2011, EPA received a submittal from IDNR requesting EPA approval of a negative declaration for HMIWI and requesting EPA to approve Iowa's revocation of the prior 111(d) plan for HMIWI units in Iowa. The state submittal included supplemental documentation about the dismantling and removal of the previously-affected HMIWI, the name of each designated facility that has been permanently shutdown, and the year it was dismantled.

Pursuant to the authority of Iowa Code section 455B.133, the Iowa Environmental Protection Commission amended the 111(d) plan to remove the emission guidelines for existing HMIWI in Chapter 23, “Emission Standards for Contaminants,” paragraph 23.1 (5) “b” of the Iowa Administrative Code. EPA requested that Iowa verify that amendments to EPA's original 1997 HMIWI requirements finalized in 2009 and 2011 did not affect Iowa's negative declaration (74 FR 51367 and 76 FR 18407). IDNR submitted documentation on May 28, 2013, reaffirming that these amendments to the rule did not impact their negative declaration that determined no units within the state are subject to the emissions guidelines of HMIWI. EPA is approving the rescission of the emission guidelines and 111 (d) plan for existing HMIWI.

IV. What part 70 revisions are being approved by EPA?

EPA is approving two changes to IDNR's Title V program. One change is the updating of the Air Quality Bureau's zip code, as previously stated; the other is to approve a change to the requirements for submitting a Title V operating permit application. Facility owners or operators submitting electronic applications are no longer required to also submit a hard copy application to EPA Region 7, as EPA now has access to IDNR's Title V database, which allows EPA to review electronic copies of applications.

For clarification, the revision to remove the requirement that facilities submit a hard copy application to EPA does not pertain or otherwise interfere with the independent obligations the state is responsible for under the Cross-Media Electronic Reporting Rule (CROMERR) found at 40 CFR Part 3. As stated in 74 FR 68692, EPA is not acting on the revision to Iowa Administrative Code 567-22.105(1) that allows facility owners or operators to submit an electronic Title V operating permit application until the State obtains approval from EPA that its electronic document receiving system is consistent with CROMERR.

V. What final action is EPA taking?

EPA is taking final action to approve changes to Chapter 22.9 related to the State's plan for Regional Haze.

EPA is taking final action to approve changes to the definitions of Volatile Organic Compounds (VOCs) in Chapter 20 and 33.

EPA is taking final action to approve changes to several chapters which update the zip code for the IDNR Air Quality Bureau Offices.

EPA is taking final action to approve an exemption from construction permitting in Chapter 22.1 for certain temporary diesel engines used in periodic testing and maintenance of natural gas pipelines.

EPA is taking final action to approve changes to Chapter 24 which allow for initial reports of excess emissions to be made via email.

EPA is taking final action to approve minor changes to IDNR's stack testing notifications and test protocols in Chapter 25.1.

EPA is taking final action to approve amendments to Chapter 28, to include the adoption by reference of the NAAQS for 2008 Ozone, 2008 Lead, and 2010 Nitrogen Dioxide into Iowa's Federally-approved SIP.

EPA is taking final action to amend Iowa's 111(d) plan for HMIWI units to: (1) approve Iowa's negative declaration and (2) approve Iowa's revocation of the 111(d) plan for HMIWI units in Iowa. However, if an affected Iowa HMIWI unit is discovered in the State of Iowa in the future, all the requirements of the Federal plan (including revisions or amendments), part 62, subpart HHH, will be applicable to the affected unit, until Iowa adopts and EPA approves a new plan to address such unit.

EPA is taking final action to approve two changes to IDNR's Title V program, updating of the Air Quality Bureau's zip code, and removing the requirement to submit a hard-copy application to EPA Region 7.

EPA is processing these actions in a direct final action because the revisions make routine changes to the existing rules which are noncontroversial. Therefore, we do not anticipate any adverse comments. Please note that if EPA receives adverse comment on part of this rule and if that part can be severed from the remainder of the rule, EPA may adopt as final those parts of the rule that are not the subject of an adverse comment.

VI. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law.

This action is not a “significant regulatory action” under the terms of Executive Order 12866 (58 FR 51735, October 4, 1993) and is therefore not subject to review under Executive Orders 12866 and 13563 (76 FR 3821, January 21, 2011).

For this reason, this action is also not subject to Executive Order 13211, “Actions Concerning Regulations That Significantly Affect Energy Supply, Distribution, or Use” (66 FR 28355, May 22, 2001). This action merely approves state law as meeting Federal requirements and imposes no additional requirements beyond those imposed by state law. This action also merely approves a state negative declaration as meeting Federal requirements and imposes no additional requirements. The State's negative determination is a determination that there are no sources in the State subject to the emission guidelines; therefore, a 111(d) plan is not needed.

Accordingly, the Administrator certifies that this rule will not have a significant economic impact on a substantial number of small entities under the Regulatory Flexibility Act (5 U.S.C. 601 et seq.). Because this rule approves a state negative declaration, withdrawal of prior 111(d) plan, and approves pre-existing requirements under state law, and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000).

This action also does not have Federalism implications because it does not have substantial direct effects on the states, on the relationship between the national government and the states, or on the distribution of power and responsibilities among the various levels of government, as specified in Executive Order 13132 (64 FR 43255, August 10, 1999). This action merely approves a state rule implementing a Federal standard, and approves a negative declaration and 111(d) plan revocation, and does not alter the relationship or the distribution of power and responsibilities established in the CAA.

In reviewing state submissions, EPA's role is to approve state choices, provided that they meet the criteria of the CAA. In this context, in the absence of a prior existing requirement for the State to use voluntary consensus standards (VCS), EPA has no authority to disapprove a state submission for failure to use VCS. It would thus be inconsistent with applicable law for EPA when it reviews a state submission, to use VCS in place of a state submission that otherwise satisfies the provisions of the CAA. Thus, the requirements of section 12(d) of the National Technology Transfer and Advancement Act of 1995 (15 U.S.C. 272 note) do not apply. Additionally, in reviewing section 111(d)/129 plan submissions, EPA's role is to approve state choices, provided that they meet the criteria of the CAA. In this context, in the absence of a prior existing requirement for the State to use voluntary consensus standards (VCS), EPA has no authority to disapprove a 111(d)/129 plan submission for failure to use VCS. It would thus be inconsistent with applicable law for EPA, when it reviews a 111(d)/129 plan submission, to use VCS in place of a 111(d)/129 plan submission that otherwise satisfies the provisions of the CAA. The requirements of section 12(d) of the National Technology Transfer and Advancement Act of 1995 (15 U.S.C. 272 note) do not apply.

This rule also is not subject to Executive Order 13045, “Protection of Children from Environmental Health Risks and Safety Risks” (62 FR 19885, April 23, 1997) because it approves state rules implementing Federal standards and a state negative declaration as required by Federal regulations. This rule does not impose an information collection burden under the provisions of the Paperwork Reduction Act of 1995 (44 U.S.C. 3501 et seq.). Burden is defined at 5 CFR 1320.3(b).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by December 24, 2013. Filing a petition for reconsideration by the Administrator of this final rule does not affect the finality of this rule for the purposes of judicial review nor does it extend the time within which a petition for judicial review may be filed, and shall not postpone the effectiveness of such rule or action.

Parties with objections to this direct final rule are encouraged to file a comment in response to the parallel notice of proposed rulemaking for this action published in the proposed rules section of today's Federal Register, rather than file an immediate petition for judicial review of this direct final rule, so that EPA can withdraw this direct final rule and address the comment in the final rulemaking.

This action, including the SIP revisions and approval of the State of Iowa section 111(d)/129 negative declaration and rescission of the HMIWI plan may not be challenged later in proceedings to enforce its requirements (See section 307(b)(2).)

List of Subjects

40 CFR Part 52

Environmental protection, Air pollution control, Incorporation by reference, Intergovernmental relations, Ozone, Lead, Nitrogen dioxide.

40 CFR Part 62

Environmental protection, Administrative practice and procedure, Air pollution control, Aluminum, Fertilizers, Fluoride, Intergovernmental relations, Paper and paper products industry, Phosphate, Reporting and recordkeeping requirements, Sulfur oxides, Sulfur acid plants, Waste treatment and disposal.

40 CFR Part 70

Administrative practice and procedure, Air pollution control, Intergovernmental relations, Operating permits, Reporting and recordkeeping requirements.

Dated: September 6, 2013.
Karl Brooks,
Regional Administrator, Region 7.

40 CFR Parts 52, 62, and 70 are amended as follows:

PART 52—APPROVAL AND PROMULGATION OF IMPLEMENTATION PLANS

1. The authority citation for part 52 continues to read as follows:

Authority: 42 U.S.C. 7401 et seq.

Subpart Q—Iowa

2. Section 52.820 table in paragraph (c) is amended by revising the entries for “567-20.2”, “567-20.3”, “567-22.1”, “567-22.3”, “567-22.9”, “567-22.203”, “567-22.209”, “567-22.300”, “567-23.1”, “567-24.1”, “567-25.1”, “567-28.1”, and “567-33.3” to read as follows:

§ 52.820 Identification of plan.

* * * * *

(c) * * *

EPA-Approved Iowa Regulations
Iowa citation | Title | State effective date | EPA approval date | Explanation
Iowa Department of Natural Resources Environmental Protection Commission [567]
Chapter 20—Scope of Title—Definitions—Forms—Rule of Practice
* * * * * * *
567-20.2 | Definitions | 11/11/09 | 10/25/13 [insert Federal Register page number where the document begins]
567-20.3 | Air Quality Forms Generally | 11/11/09 | 10/25/13 [insert Federal Register page number where the document begins]
* * * * * * *
Chapter 22—Controlling Pollution
567-22.1 | Permits required for New or Existing Stationary Source | 11/11/09 | 10/25/13 [insert Federal Register page number where the document begins]
* * * * * * *
567-22.3 | Issuing Permits | 11/11/09 | 10/25/13 [insert Federal Register page number where the document begins]
* * * * * * *
567-22.9 | Special Requirements for Visibility Protection | 11/11/09 | 10/25/13 [insert Federal Register page number where the document begins]
* * * * * * *
567-22.203 | Voluntary Operating Permit Applications | 11/11/09 | 10/25/13 [insert Federal Register page number where the document begins]
* * * * * * *
567-22.209 | Change of Ownership for Facilities With Voluntary Operating Permits | 11/11/09 | 10/25/13 [insert Federal Register page number where the document begins]
* * * * * * *
567-22.300 | Operating Permit by Rule for Small Sources | 11/11/09 | 10/25/13 [insert Federal Register page number where the document begins]
* * * * * * *
Chapter 23—Emission Standards for Contaminants
567-23.1 | Emission Standards | 11/24/10 | 10/25/13 [insert Federal Register page number where the document begins]
* * * * * * *
Chapter 24—Excess Emissions
567-24.1 | Excess Emission Reporting | 11/24/10 | 10/25/13 [insert Federal Register page number where the document begins]
* * * * * * *
Chapter 25—Measurement of Emissions
567-25.1 | Testing and Sampling of New and Existing Equipment | 11/11/09 | 10/25/13 [insert Federal Register page number where the document begins]
* * * * * * *
Chapter 28—Ambient Air Quality Standards
567-28.1 | Statewide Standards | 11/24/10 | 10/25/13 [insert Federal Register page number where the document begins]
* * * * * * *
Chapter 33—Special Regulations and Construction Permit Requirements for Major Stationary Sources—Prevention of Significant Deterioration (PSD) of Air Quality
* * * * * * *
567-33.3 | Purpose | 11/11/09 | 10/25/13 [insert Federal Register page number where the document begins]
* * * * * * *

* * * * *

PART 62—APPROVAL AND PROMULGATION OF STATE PLANS FOR DESIGNATED FACILITIES AND POLLUTANTS

3. The authority citation for part 62 continues to read as follows:

Authority: 42 U.S.C. 7401 et seq.

Subpart Q—Iowa

4. Section 62.3914 is revised to read as follows:

§ 62.3914 Identification of plan—negative declaration.

(a) Identification of plan—negative declaration. Letter from the Iowa Department of Natural Resources, submitted March 1, 2011, certifying that there are no Hospital Medical Infectious Waste Incinerators subject to 40 CFR part 60, subpart Ce of this chapter. Submission included a negative declaration, supporting state documentation, and request for EPA withdrawal of EPA's prior plan approval for HMIWI Units.

(b) Effective date. The effective date of the negative declaration and EPA withdrawal of the prior plan approval is December 24, 2013.

PART 70—STATE OPERATING PERMIT PROGRAMS

5. The authority citation for part 70 continues to read as follows:

Authority: 42 U.S.C. 7401 et seq.

6. Appendix A to Part 70 is amended by adding paragraph (n) under “Iowa” to read as follows:

Appendix A to Part 70—Approval Status of State and Local Operating Permits Program

* * * * *

Iowa

* * * * *

(n) The Iowa Department of Natural Resources submitted for program approval a revision to 567-22.105(1) on January 11, 2010. The State effective date was November 11, 2009. These revisions to the Iowa program, are approved effective December 24, 2013.

* * * * *

[FR Doc. 2013-24864 Filed 10-24-13; 8:45 am]

BILLING CODE 6560-50-P